SMALL BUSINESS ADMINISTRATION

[Disaster Declaration #16647; Colorado Disaster Number CO-00125 Declaration of Economic Injury]

Administrative Declaration Amendment of an Economic Injury Disaster for the State of Colorado

AGENCY: Small Business Administration.

ACTION: Amendment 1.

SUMMARY: This is an amendment of the Economic Injury Disaster Loan (EIDL) declaration for the State of COLORADO, dated 09/15/2020. Incident: Grizzly Creek Fire. Incident Period: 08/10/2020 through 12/08/2020.

DATES: Issued on 12/09/2020. Economic Injury (EIDL) Loan Application Deadline Date: 06/15/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the Administrator's EIDL declaration for the State of Colorado, dated 09/15/2020, is hereby amended to establish the incident period for this disaster as beginning 08/10/2020 and continuing through 12/08/2020.

All other information in the original declaration remains unchanged.

(Catalog of Federal Domestic Assistance Number 59008)

Jovita Carranza,
Administrator.

[FR Doc. 2020-27558 Filed 12-14-20; 8:45 am]

BILLING CODE 8026-03-P